DEPARTMENT OF DEFENSE

Department of the Army; Corps of Engineers

Intent to Prepare a Supplemental Environmental Impact Statement 2.0 for the Lower Mud River Watershed Project, Milton, Cabell County, WV

AGENCY: Department of the Army, U.S. Army Corps of Engineers, DoD.

ACTION: Notice of intent.

SUMMARY: Pursuant to the National Environmental Policy Act (NEPA), the U.S. Army Corps of Engineers (Corps), Huntington District will prepare a Supplemental Environmental Impact Statement (SEIS). The SEIS will evaluate potential impacts to the natural, physical, and human environment as a result of utilizing soil borrow material for construction of the selected plan for the proposed flood damage reduction measures for the area at the City of Milton, Cabell County, WV (lower Mud River Project). The Corps is soliciting public concerns/issues to be evaluated during the study process.

ADDRESSES: Send written comments and suggestions concerning this proposed project to S. Michael Worley PM-PD, U.S. Army Corps of Engineers, Huntington District, 502 Eighth Street, Huntington, WV, 25701-2070. Telephone: (304) 529-5712. Electronic mail: Stephen.M.Worley@Lrh01.usace.army.mil. Requests to be placed on the mailing list should also be sent to this address.

FOR FURTHER INFORMATION CONTACT: Mrs. Amy K. Frantz PD-F, U.S. Army Corps of Engineers, Huntington District, 502 Eighth Street, Huntington, WV, 25701-2070. Telephone: (304) 399-5845. Electronic mail: amy.k.frantz@Lrh01.usace.army.mil.

SUPPLEMENTARY INFORMATION:

1. Authority

The proposed project is authorized under Section 580 of the Water Resources Development Act (WRDA) of 1996, which provides the Corps authority “. . . to conduct a limited reevaluation of the watershed plan and environmental impact statement prepare for the Lower Mud River, Milton, W.V., by the Natural Resources Conservation Service, pursuant to the Watershed Protection and Flood Prevention Act (16 U.S.C. 1001 et seq.) and may carry out the project”, and Section 340 of the WRDA of 2000, which reads: “Modifies Lower Mud River project at Milton authority (Sec 580 of WRDA of 1996) to direct the COE to construct the project as selected in the COE reevaluation report.”

2. Background

Under authority of the Watershed Protection and Flood Prevention Act (Pub. L. 83-566), the Natural Resources Conservation Service (NRCS) began an investigation of land and water resource problems, including flooding, in the Lower Mud River watershed in 1972. This early investigation culminated with completion of the Lower Mud River Watershed Plan and Environmental Impact Statement (EIS) in May 1993, in which a channel modification project on the Mud River in the vicinity of Milton was recommended. Section 580 of WRDA 1996 provided the Corps authority to re-evaluate that study and construct a project.

In May 2004 the Corps completed the re-evaluation study and recommended Plan B. The Plan consists of a flood control levee with modifications to the Mud River. Plan B provides a high level of flood protection, has the greatest net benefits, and all significant environmental impacts are mitigated by special project features.

Further geotechnical studies after the completion of the re-evaluation study and EIS indicate that the proper quantity and quality of borrow material cannot be obtained within the Construction Work Limits identified in the EIS. This Supplemental EIS will evaluate several borrow site alternatives in the surrounding area for the purpose of obtaining the proper quantity and quality of soil material for construction of the recommended plan. The Supplemental EIS will evaluate transportation, noise, terrestrial, aquatic, economic, environmental justice and cultural resource issues associated with the selection of borrow sites.

3. Public Participation

The Corps invites full public participation to promote open communication and better decision-making. All persons and organizations that have an interest in the Lower Mud River flooding problems as they affect the community of Milton, WV and the environment are urged to participate in this NEPA environmental analysis process. Assistance will be provided upon request to anyone having difficulty with learning how to participate.

Public comments are welcomed anytime throughout the NEPA process. Formal opportunities for public participation include: (1) Public meetings to be held near the community of Milton; (2) Anytime during the NEPA process via mail, telephone or e-mail; (3) During Review and Comment on the Draft SEIS—approximately August 2006; and, (4) Review of the Final EIS—Fall 2006. Schedules and locations will be announced in local news media. Interested parties should submit contact information to be included on the mailing list for public distribution of meeting announcements and documents (See ADDRESSES).

William E. Bulen,
COL, Corps of Engineers, Commander.

[FR Doc. 06-2862 Filed 3-23-06; 8:45 am]

BILLING CODE 3710-GM-M